DEPARTMENT OF TRANSPORTATION

Surface Transportation Board

[STB Finance Docket No. 33949]

Albany & Eastern Railroad Company—Acquisition and Operation Exemption—Union Pacific Railroad Company

Albany & Eastern Railroad Company (AERC), a Class III carrier, has filed a verified notice of exemption under 49 CFR 1150.41 to acquire by lease from Union Pacific Railroad Company (UP) and operate the Mill City Branch extending from milepost 689.64, at Page, and milepost 725.71, at Mill City, a distance of 48.57 miles in Marion and Linn Counties, OR (line).¹ AERC will replace the Willamette Valley Railway Company (WVRY) as the lessee and operator of the line.²

¹ The line serves the intermediate stations of Lebanon, Crabtree, and Lyons, OR. The verified notice indicates that a milepost equation near Tallman, OR, 684.87=697.37, makes the line 12.50 miles longer than would appear from the terminal mileposts.

² WVRY was authorized to lease and operate the line pursuant to Willamette Valley Railway Company—Acquisition, Lease and Operation Exemption—Southern Pacific Transportation Company, Finance Docket No. 32249 (ICC served Mar. 5, 1993).

The transaction is expected to be consummated on or after October 20, 2000.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33949, must be filed with the Surface Transportation Board, Office of the Secretary, Case Control Unit, 1925 K Street, N.W., Washington, DC 20423-0001. In addition, a copy of each pleading must be served on Fritz R. Kahn, Esq., Fritz R. Kahn, P.C., 1920 N Street, N.W., 8th Floor, Washington, DC 20036.

Board decisions and notices are available on our website at “WWW.STB.DOT.GOV.”

Decided: October 19, 2000.
By the Board, David M. Konschnik, Director, Office of Proceedings.
Vernon A. Williams,
Secretary.

[FR Doc. 00-27561 Filed 10-26-00; 8:45 am]

BILLING CODE 4915-00-P